DEPARTMENT OF DEFENSE

Office of the Secretary

[No. DoD-2006-OS-0006]

Submission for OMB Review; Comment Request

ACTION: Notice.

The Department of Defense has submitted to OMB for clearance, the following proposal for collection of information under the provisions of the Paperwork Reduction Act (44 U.S.C. Chapter 35).

DATES: Consideration will be given to all comments received by July 2, 2007.

Title, Form, and OMB Number: Nuclear Test Personnel Review (NTPR) Forms; DTRA Form 150, “Information Request and Release” and DTRA Forms 150-A, -B, -C, “Nuclear Test Questionnaires”; OMB Control Number 0704-TBD.

Type of Request: New.

Number of Respondents: 370.

Responses Per Respondent: 1.

Annual Responses: 370.

Average Burden Per Response: 1.25.

Annual Burden Hours: 463.

Needs and Uses: Veterans and their representatives routinely contact DTRA (by phone and mail) to request information regarding participation in U.S. atmosphere nuclear testing. A release form is required to certify the identity of the requester and authorize the release of Privacy Act information (to the veteran or a 3rd party). DTRA is also required to collect irradiation scenario information from nuclear test participants to accurately determine their radiation dose assessment.

Affected Public: Individuals or households.

Frequency: On occasion.

Respondent's Obligation: Required to obtain or retain benefits.

OMB Desk Officer: Ms. Hillary Jaffe.

Written comments and recommendations on the proposed information collection should be sent to Ms. Jaffe at the Office of Management and Budget, Desk Officer for DoD, room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: May 21, 2007.
Patricia L. Toppings,
Alternate OSD Federal Register Liaison Officer, Department of Defense.

[FR Doc. 07-2711 Filed 5-31-07; 8:45 am]

BILLING CODE 5001-06-M